DEPARTMENT OF THE INTERIOR

Bureau of Land Management

[LLUTG01100-12-L13100000-EJ0000]

Notice of Availability of the Greater Natural Buttes Final Environmental Impact Statement, Uintah County, UT

AGENCY: Bureau of Land Management, Interior.

ACTION: Notice of availability.

SUMMARY: Under the National Environmental Policy Act of 1969, Federal Land Policy and Management Act of 1976, and associated regulations, the Bureau of Land Management (BLM) has prepared a Final Environmental Impact Statement (EIS) that evaluates, analyzes, and discloses to the public anticipated impacts of the Greater Natural Buttes proposal to develop natural gas in Uintah County, Utah. This notice announces a 30-day availability period prior to preparation of a Record of Decision (ROD).

DATES: The Final EIS will be available for 30 calendar days following the date on which the Environmental Protection Agency publishes its Notice of Availability in the Federal Register.

ADDRESSES: Copies of the Final EIS have been sent to affected Federal, state, and local government agencies and to other stakeholders. Copies of the Final EIS are available for public inspection at the BLM Vernal Field Office, 170 South 500 East, Vernal, Utah, and on the Internet at: http://www.blm.gov/ut/st/en/fo/vernal/planning/nepa_.html.

FOR FURTHER INFORMATION CONTACT: For further information contact Stephanie Howard, Environmental Coordinator; telephone 435-781-4400; address 170 South 500 East, Vernal, Utah, 84078; email BLM_UT_Vernal_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Greater Natural Buttes Project Area encompasses approximately 162,911 acres in the townships listed below in Uintah County, Utah:

Salt Lake Meridian

T. 8 S., R. 20-23 E.

T. 9 S., R. 20-24 E.

T. 10 S., R. 20-23 E.

T. 11 S., R. 21-22 E.

Kerr-McGee Oil & Gas Onshore LP (KMG), a wholly-owned subsidiary of Anadarko Petroleum Corporation, proposed this project to develop their existing oil and gas leases by drilling 3,675 wells from 3,041 new well pads over a period of 10 years. The proposed action would result in approximately 12,685 acres of additional disturbance (about 7.8 percent of the total project area). The total estimated surface disturbance under this alternative would be 25,125 acres, or about 15.4 percent of the project area. BLM's purpose and need for the project is to respond to KMG's proposal while minimizing environmental impacts.

In response to a proposal submitted by KMG (Alternative A) the BLM published in the October 5, 2007, Federal Register a Notice of Intent to prepare an EIS. The scoping comments received in response to this Notice were used during preparation of the Draft EIS to help identify impacts expected as a result of the proposed action and to develop Alternatives B and C.

A 45-day public comment period for the Draft EIS was held from July 16, 2010, through August 30 2010, as announced through the Federal Register. The Environmental Protection Agency (EPA) expressed concerns with the air quality analysis in the Draft EIS, so a Supplement to the Draft EIS was prepared by the BLM in close coordination with the EPA to address those concerns. A 45-day public comment period was then held from June 10, 2011, through July 25, 2011, for the Supplement to the Draft EIS, as announced through the Federal Register. An updated inventory of lands with wilderness characteristics was completed for the project area and lands with wilderness characteristics were identified. This information was analyzed in the draft EIS.

The BLM prepared the Final EIS in coordination with the Bureau of Indian Affairs and Uintah County, who participated as formal cooperating agencies during the EIS process. The BLM also closely coordinated with the United States Fish and Wildlife Service and the EPA to ensure their concerns were adequately addressed. The Final EIS describes the changes made between the Draft EIS and Final EIS, and includes responses to the comments received during the public comment period.

Under the Resource Protection Alternative (the Agency Preferred Alternative), up to 3,675 new gas wells would be drilled from 1,484 new well pads over a period of 10 years, resulting in approximately 8,147 acres of additional disturbance (about 5.0 percent of the total project area). The total estimated surface disturbance under this alternative would be 20,615 acres, or about 12.7 percent of the project area. In coordination with the EPA, a Water Monitoring Plan was developed to address water quality impacts, and extensive applicant-committed measures, including an adaptive management strategy, were developed or refined to minimize air quality impacts.

This Final EIS is not a decision document. Following conclusion of the 30-day availability period, a ROD will be signed to disclose the BLM's final decision and any project Conditions of Approval. Availability of the ROD will be announced through local media, the BLM Vernal Web site, and the BLM's Utah Environmental Notification Bulletin Board.

Shelley J. Smith,
Acting Assoc. State Director.

[FR Doc. 2012-8247 Filed 4-5-12; 8:45 am]

BILLING CODE 4310-DQ-P